DEPARTMENT OF LABOR

Occupational Safety and Health Administration

29 CFR Part 1910

[Docket No. OSHA-2007-0032 (Formerly Docket No. OSHA-S031-2006-0665 and OSHA Docket No. S-031)]

RIN 1218-AC09

Explosives; Extension of Comment Period

AGENCY: Occupational Safety and Health Administration (OSHA), Department of Labor.

ACTION: Proposed rule; extension of comment period.

SUMMARY: OSHA is extending the comment period for its proposed standard on Explosives for an additional sixty (60) days until September 10, 2007.

DATES: Written comments must be submitted (postmarked or sent) by September 10, 2007.

ADDRESSES: You may submit comments, identified by Docket No. OSHA-2007-0032, by any of the following methods:

Electronically: You may submit comments and attachments electronically at http://www.regulations.gov, which is the Federal eRulemaking Portal. Follow the instructions on-line for making electronic submissions.

Fax: If your comments, including attachments, do not exceed 10 pages, you may fax them to the OSHA Docket Office at (202) 693-1648.

Mail, hand delivery, express mail, messenger or courier service: You must submit three copies of your comments and attachments to the OSHA Docket Office, Docket No. OSHA-2007-0032, U.S. Department of Labor, Room N-2625, 200 Constitution Avenue, NW., Washington, DC 20210; telephone (202) 693-2350 (OSHA's TTY number is (877) 889-5627). Deliveries (hand, express mail, messenger and courier service) are accepted during the Department of Labor's and Docket Office's normal business hours, 8:15 a.m.-4:45 p.m., E.T.

Instructions: All submissions must include the Agency name and the docket number for this rulemaking (Docket No. OSHA-2007-0032). All comments, including any personal information you provide, are placed in the public docket without change and may be made available online at http://www.regulations.gov. Therefore, OSHA cautions you about submitting personal information such as social security numbers and birthdates. For further information on submitting comments, plus additional information on the rulemaking process, see the SUPPLEMENTARY INFORMATION section of this document.

Docket: To read or download comments and materials submitted in response to this Federal Register notice, go to Docket No. OSHA-2007-0032 at http://www.regulations.gov or at the OSHA Docket Office at the address above. All comments and submissions are listed in the http://www.regulations.gov index, however, some information (e.g., copyrighted material) is not publicly available to read or download through that Web page. All comments and submissions, including copyrighted material, are available for inspection and copying at the OSHA Docket Office.

For information on accessing exhibits referenced in the Explosives proposal, see the “Public Participation” heading in the SUPPLEMENTARY INFORMATION section of this document.

Electronic copies of this Federal Register document are available at http://www.regulations.gov. Copies also are available from the OSHA Office of Publications, Room N-3101, U.S. Department of Labor, 200 Constitution Avenue, NW., Washington, DC 20210; telephone (202) 693-1888. This document, as well as news releases and other relevant information, also are available at OSHA's Web page at http://www.osha.gov.

FOR FURTHER INFORMATION CONTACT: For general information and press inquiries: Kevin Ropp, Office of Communications, Room N-3647, OSHA, U.S. Department of Labor, 200 Constitution Avenue, NW., Washington, DC 20210; telephone (202) 693-1999. For technical inquiries: Donald Pittenger, Directorate of Standards and Guidance, Room N-3609, OSHA, U.S. Department of Labor, 200 Constitution Avenue, NW., Washington, DC 20210; telephone (202) 693-2255 or fax (202) 693-1663.

SUPPLEMENTARY INFORMATION:

I. Extension of Comment Period

On April 13, 2007, OSHA published a notice of proposed rulemaking to revise the Explosives standard (72 FR 18792). In that notice, the Agency provided the public with ninety (90) days to submit written comments, until July 12, 2007. Several interested persons have requested an extension of the deadline for submitting comments explaining that they needed additional time to gather information and provide a thorough review and response to the proposed standard. OSHA is providing an additional sixty (60) days for the submission of comments. Accordingly, written comments must now be submitted (sent or postmarked) by September 10, 2007. Granting additional time to comment on the proposed rule will allow these and other stakeholders time to provide more thorough comments on the proposed rule, which, in turn, will give OSHA a more complete record.

II. Submission of Comments and Access to Comments

You may submit comments in response to this document (1) electronically at http://www.regulations.gov, which is the Federal eRulemaking Portal; (2) by facsimile (FAX); or (3) by hard copy. All comments, attachments and other material must identify the Agency name and the OSHA docket number for this rulemaking (Docket No. OSHA-2007-0032). You may supplement electronic submissions by uploading document files electronically. If, instead, you wish to mail additional materials in reference to an electronic or fax submission, you must submit three copies to the OSHA Docket Office (see ADDRESSES section). The additional materials must clearly identify your electronic comments by name, date, and docket number so OSHA can attach them to your comments.

Because of security-related procedures, the use of regular mail may cause a significant delay in the receipt of comments. For information about security procedures concerning the delivery of materials by hand, express delivery, messenger or courier service, please contact the OSHA Docket Office (see ADDRESSES section).

Comments and submissions in response to this Federal Register notice are posted without change at http://www.regulations.gov (Docket No. OSHA-2007-0032). Therefore, OSHA cautions commenters about submitting personal information such as social security numbers and date of birth.

In the Explosives proposal, OSHA referenced a number of supporting materials. Those references are posted in both Docket No. OSHA-S031-2006-0665 (which is available at http://www.regulations.gov) and OSHA Docket No. S-031 (which is available at http://dockets.osha.gov).

Although all submissions in response to this Federal Register notice and all supporting materials cited in the Explosives proposal are listed in the http://www.regulations.gov and http://dockets.osha.gov indexes, some information (e.g., copyrighted material) is not publicly available to read or download from that Web page. All submissions and supporting materials, including copyrighted material, are available for inspection and copying at the OSHA Docket Office. Information on using the http://www.regulations.gov Web page to submit comments is available at the Web page's User Tips link. Contact the OSHA Docket Office for information about materials not available through the Web pages and for assistance in using the Internet to locate docket submissions.

Electronic copies of this Federal Register document are available at http://www.regulations.gov. This document, as well as news releases and other relevant information, also are available at OSHA's Web page at http://www.osha.gov.

Authority and Signature

This document was prepared under the authority of Edwin G. Foulke, Jr., Assistant Secretary of Labor for Occupational Safety and Health, U.S. Department of Labor, 200 Constitution Avenue, NW., Washington, DC 20210, pursuant to Sections 4, 6, and 8 of the OSH Act of 1970 (29 U.S.C. 653, 655, 657), Secretary of Labor's Order No. 5-2002 (67 FR 65008), Secretary of Labor's Order 5-2007 (72 FR 31160 (6/5/2007)), and 29 CFR part 1911.

Signed at Washington, DC, on July 2, 2007.
Edwin G. Foulke, Jr.,
Assistant Secretary of Labor for Occupational Safety and Health.

[FR Doc. E7-13198 Filed 7-6-07; 8:45 am]

BILLING CODE 4510-26-P